PENSION BENEFIT GUARANTY CORPORATION

Proposed Submission of Information Collection for OMB Review; Comment Request; Locating and Paying Participants

AGENCY: Pension Benefit Guaranty Corporation.

ACTION: Notice of intention to request extension of OMB approval.

SUMMARY: Pension Benefit Guaranty Corporation (“PBGC”) intends to request that the Office of Management and Budget (“OMB”) extend its approval (with modifications) of a collection of information under the Paperwork Reduction Act. The purpose of the information collection is to enable PBGC to pay benefits to participants and beneficiaries in plans covered by the PBGC insurance program. This notice informs the public of PBGC's intent and solicits public comment on the collection of information.

DATES: Comments should be submitted by May 22, 2006.

ADDRESSES: Comments may be mailed to the Legislative and Regulatory Department, Pension Benefit Guaranty Corporation, 1200 K Street, NW., Washington, DC 20005-4026. Comments also may be submitted by e-mail to paperwork.comments@pbgc.gov, or by fax to 202-326-4224. PBGC will make all comments available on its Web site, http://www.pbgc.gov.

Copies of comments may also be obtained without charge by writing to the Disclosure Division of the Office of the General Counsel of PBGC at the above address or by visiting the Disclosure Division or calling 202-326-4040 during normal business hours. (TTY and TDD users may call the Federal relay service toll-free at 1-800-877-8339 and ask to be connected to 202-326-4040.).

FOR FURTHER INFORMATION CONTACT: Jo Amato Burns, Attorney, Legislative and Regulatory Department, Pension Benefit Guaranty Corporation, 1200 K Street, NW., Washington, DC 20005-4026, 202-326-4024. (TTY/TDD users may call the Federal relay service toll-free at 1-800-877-8339 and ask to be connected to 202-326-4024).

SUPPLEMENTARY INFORMATION: PBGC intends to request that OMB extend its approval (with modifications) of a collection of information needed to pay participants and beneficiaries who may be entitled to pension benefits under a defined benefit plan that has terminated. The collection consists of information participants and beneficiaries are asked to provide in connection with an application for benefits. In addition, in some instances, as part of a search for participants and beneficiaries who may be entitled to benefits, PBGC requests individuals to provide identifying information that the individual would provide as part of an initial contact with PBGC. All requested information is needed to enable PBGC to determine benefit entitlements and to make appropriate payments. The information collection includes My Pension Benefit Account (My PBA), an application on PBGC's Web site, http://www.pbgc.gov, through which plan participants and beneficiaries may conduct electronic transactions with PBGC, including applying for pension benefits, designating a beneficiary, granting a power of attorney, electing monthly payments, electing to withhold income tax from periodic payments, changing contact information, and applying for electronic direct deposit.

PBGC intends to improve its benefit application and information forms and instructions and My PBA by making simplifying, editorial, and other changes. The existing collection of information under the regulation was approved under control number 1212-0055 (expires August 31, 2008). PBGC intends to request that OMB extend its approval (with modifications) for three years from the date of approval. An agency may not conduct or sponsor, and a person is not required to respond to, a collection of information unless it displays a currently valid OMB control number.

PBGC estimates that 184,350 benefit application or information forms will be filed annually by individuals entitled to benefits from PBGC and that the associated burden is 90,600 hours (an average of about one-half hour per response) and $71,900 (an average of $.39 per response). PBGC further estimates that 5,500 individuals annually will provide PBGC with identifying information as part of an initial contact so that PBGC may determine if they are entitled to benefits and that the associated burden is 1,500 hours (an average of about one-quarter hour per response) and $1,200 (an average of $.22 per response). Thus, the total estimated annual burden associated with this collection of information is 92,100 hours and $73,100.

(These estimates include paper and electronic filings.).

PBGC is soliciting public comments to—

• Evaluate whether the collection of information is necessary for the proper performance of the functions of the agency, including whether the information will have practical utility;

• Evaluate the accuracy of the agency's estimate of the burden of the collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Issued at Washington, DC, this 15th day of March, 2006.
Richard W. Hartt,
Chief Technology Officer, Pension Benefit Guaranty Corporation.

[FR Doc. E6-4061 Filed 3-20-06; 8:45 am]

BILLING CODE 7709-01-P